ENVIRONMENTAL PROTECTION AGENCY

[EPA-HQ-OPP-2022-0163; FRL-9408-02-OCSPP]

Pesticide Product Registration; Receipt of Applications for New Uses—February 2022

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before April 21, 2022.

ADDRESSES: Submit your comments, identified by the docket identification (ID) number and the File Symbol of the EPA registration Number of interest as shown in the body of this document, through the Federal eRulemaking Portal at http://www.regulations.gov. Follow the online instructions for submitting comments. Do not submit electronically any information you consider to be Confidential Business Information (CBI) or other information whose disclosure is restricted by statute. Additional instructions on commenting or visiting the docket, along with more information about dockets generally, is available at https://www.epa.gov/dockets/about-epa-dockets.

Due to the public health concerns related to COVID-19, the EPA Docket Center (EPA/DC) and Reading Room is open to visitors by appointment only. For the latest status information on EPA/DC services and access, visit https://www.epa.gov/dockets.

FOR FURTHER INFORMATION CONTACT: Charles Smith, Biopesticides and Pollution Prevention Division (BPPD) (7511P), main telephone number: (202) 566-2427, email address: BPPDFRNotices@epa.gov; or Marietta Echeverria, Registration Division (RD) (7505P), main telephone number: (703) 305-7090, email address: RDFRNotices@epa.gov. The mailing address for each contact person: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

Notice of Receipt—New Uses

1. EPA Registration Number: 8033-102 and 8033-103. Docket ID number: EPA-HQ-OPP-2021-0788. Applicant: Nippon Soda Co., Ltd., Shin-Ohtemachi Bldg., 2-1, 2-Chome Ohtemachi, Chiyoda-ku, Tokyo, 100-8165, Japan. Active ingredient: Cyflufenamid. Product type: Fungicide. Proposed use: Sugar beet. Contact: RD.

2. EPA Registration Numbers: 10163-354, 10163-355, and 10163-356. Docket ID number: EPA-HQ-OPP-2021-0555. Applicant: Gowan Company, LLC 370 S Main St., Yuma, AZ 85366. Active ingredient: Ethalfluralin. Product type: Herbicide. Proposed use: 3-07A. onion, bulb subgroup. Contact: RD.

3. EPA Registration Numbers: 61842-21, 61842-22, and 61842-24. Docket ID number: EPA-HQ-OPP-2022-0134. Applicant: Tessenderlo Kerley, Inc./NovaSource 2910 N 44th Street, Suite 100, Phoenix, AZ 85018. Active ingredient: Linuron. Product type: Herbicide. Proposed use: Alfalfa forage and hay. Contact: RD.

4. EPA Registration Numbers: 67690-6, 67690-78. Docket ID number: EPA-HQ-OPP-2021-0787. Applicant: SePRO Corporation, 11550 North Meridian Street, Suite 600, Carmel, IN 46032. Active ingredient: Fluridone. Product type: Herbicide. Proposed uses: Citrus fruit (crop group 10-10); pome fruit (crop group 11-10); berry and small fruit (crop group 13-07); tree nut (crop group 14-12); grass forage, fodder and hay (crop group 17); non-grass animal feeds (crop group 18); tropical and subtropical, small fruit, edible peel (crop subgroup 23A); tropical and subtropical fruit, inedible peel (crop subgroup 24B); rice, and hops. Contact: RD.

5. EPA Registration Numbers: 71512-21 & 71512-22. Docket ID number: EPA-HQ-OPP-2021-0385. Applicant: Interregional Research Project Number 4 (IR-4), Rutgers, The State University of New Jersey, 500 College Road East, Suite 201 W, Princeton, NJ 08540. Active ingredient: Isofetamid. Product type: Fungicide. Proposed use: Ginseng, and crop group expansion to all of the bean and pea commodities in proposed subgroups 6-19A edible podded bean legume vegetable subgroup; 6-19B edible podded pea legume vegetable subgroup, 6-19C succulent shelled bean subgroup; 6-19D succulent shelled pea subgroup; 6-19E dried shelled bean, except soybean, subgroup; and 6-19F dried shelled pea subgroup. Contact: RD.

6. EPA Registration Number: 71512-25, 71512-24 & 71512-43. Docket ID number: EPA-HQ-OPP-2021-0386. Applicant: The State University of New Jersey Rutgers, 500 College Road East, Suite 201 W, Princeton, NJ 08540. Active ingredient: Pyriofenone. Product type: Fungicide. Proposed use: New greenhouse uses of pyriofenone on tomato subgroup 8-10A; pepper/eggplant subgroup 8-10B and cucumber. Contact: RD.

7. File Symbol: 89600-T. Docket ID number: EPA-HQ-OPP-2022-0224. Applicant: Anatis Bioprotection Inc., 278 Rang Saint-André, St-Jacques-le-Mineur, Quebec J0J 1Z0, Canada (c/o SciReg, Inc., 12733 Director's Loop, Woodbridge, VA 22192). Active ingredient: Beauveria bassiana strain ANT-03. Product type: Insecticide. Proposed use: For use on poultry litter and livestock bedding. Contact: BPPD.

8. EPA Registration Number: 91746-5. Docket ID number: EPA-HQ-OPP-2022-0257. Applicant: Belchim Crop Protection US Corporation, 2751 Centreville Road, Suite 100, Wilmington, Delaware 19808. Active ingredient: Pyridate. Product type: herbicide. Proposed use: Dry peas and soybeans. Contact: RD.

Authority: 7 U.S.C. 136 et seq.

Dated: March 16, 2022.
Delores Barber,
Director, Information Technology and Resources Management Division, Office of Program Support.

[FR Doc. 2022-06047 Filed 3-21-22; 8:45 am]

BILLING CODE 6560-50-P